ENVIRONMENTAL PROTECTION AGENCY

[ER-FRL-9051-4]

Environmental Impact Statements; Notice of Availability

Responsible Agency: Office of Federal Activities, General Information 202-564-5632 or https://www.epa.gov/nepa.

Weekly receipt of Environmental Impact Statements (EIS)

Filed June 8, 2020, 10 a.m. EST Through June 15, 2020 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200124, Final, APHIS, NAT, Southern Gardens Citrus Nursery, LLC Permit to Release Genetically Engineered Citrus tristeza virus, Review Period Ends: 07/20/2020, Contact: Cindy Eck 301-851-3892.

EIS No. 20200125, Draft, USAF, FL, F-35A Wing Beddown at Tyndall AFB and MQ-9 Wing Beddown at Tyndall AFB or Vandenberg AFB, Comment Period Ends: 08/03/2020, Contact: Nolan Swick 210-925-3392.

EIS No. 20200126, Final Supplement, USFS, MT, Greater Red Lodge Area Vegetation and Habitat Management Project, Review Period Ends: 08/03/2020, Contact: Victoria Regula 406-848-7375.

EIS No. 20200127, Final, DHS, SC, Adoption—Navy Base Intermodal Container Transfer Facility, Review Period Ends: 07/20/2020, Contact: Jennifer DeHart Hass 202-834-4346.

The Department of Homeland Security (DHS) has adopted the U.S. Army Corps of Engineers Final EIS No. 20180148, filed 06/22/2018 with EPA. DHS was not a cooperating agency on this project. Therefore, recirculation of the document is necessary under Section 1506.3(b) of the CEQ Regulations.

EIS No. 20200128, Draft, FHWA, WI, South Bridge Connector, Brown County, Wisconsin, Tier 1 DEIS, Comment Period Ends: 08/03/2020, Contact: Ian Chidister 608-829-7503.

EIS No. 20200129, Revised Final, USFS, ID, Little Boulder, Review Period Ends: 07/20/2020, Contact: Amy Boykin 208-476-8205.

Amended Notice

EIS No. 20200054, Draft, BIA, BLM, NM, Farmington Mancos-Gallup Resource Management Plan Amendment and Environmental Impact Statement, Comment Period Ends: 09/25/2020, Contact: Jillian Aragon 505-564-7722. Revision to FR Notice Published 2/28/2020; Extending the Comment Period from 5/28/2020 to 9/25/2020.

EIS No. 20200060, Draft, FHWA, VA, Route 220 Martinsville Southern Connector, Comment Period Ends: 07/24/2020, Contact: Mack A Frost 804-775-3352. Revision to FR Notice Published 5/15/2020; Extending the Comment Period from 6/19/2020 to 7/24/2020.

Dated: June 16, 2020.
Cindy S. Barger,
Director, NEPA Compliance Division, Office of Federal Activities.

[FR Doc. 2020-13252 Filed 6-18-20; 8:45 am]

BILLING CODE 6560-50-P